DEPARTMENT OF TRANSPORTATION

Federal Aviation Administration

14 CFR Part 39

[Docket No. FAA-2010-0670; Directorate Identifier 2009-SW-42-AD; Amendment 39-16513; AD 2010-23-23]

RIN 2120-AA64

Airworthiness Directives; Eurocopter France (ECF) Model SA330F, G, and J; and AS332C, L, L1, and L2 Helicopters

AGENCY: Federal Aviation Administration (FAA), DOT.

ACTION: Final rule.

SUMMARY: This amendment adopts a new airworthiness directive (AD) for the specified ECF model helicopters. This AD results from a mandatory continuing airworthiness information (MCAI) AD issued by the European Aviation Safety Agency (EASA), which is the Technical Agent for the Member States of the European Community. The MCAI AD states that EASA received a report of a rear hinged door on a Model AS332L1 helicopter opening in flight without loss of the door. Examinations revealed incorrect positioning of a door catch that resulted in incorrect locking and uncontrolled opening of the door. This condition, if not detected and corrected, can lead to the loss of the hinged door in flight, damage to the main or tail rotor blades, and subsequent loss of control of the helicopter.

DATES: This AD becomes effective on December 22, 2010.

The incorporation by reference of certain publications listed in the regulations is approved by the Director of the Federal Register as of December 22, 2010.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from American Eurocopter Corporation, 2701 Forum Drive, Grand Prairie, TX 75053-4005, telephone (800) 232-0323, fax (972) 641-3710, or at http://www.eurocopter.com.

Examining the AD Docket: The AD docket contains the Notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: DOT/FAA Southwest Region, Gary Roach, ASW-111, Aviation Safety Engineer, Rotorcraft Directorate, Regulations and Guidance Group, 2601 Meacham Blvd, Fort Worth, Texas 76137, telephone (817) 222-5130, fax (817) 222-5961.

SUPPLEMENTARY INFORMATION:

Discussion

We issued an NPRM to amend 14 CFR part 39 to include an AD that would apply to the specified ECF model helicopters on June 11, 2010. That NPRM was published in the Federal Register on July 7, 2010 (75 FR 38956). That NPRM proposed to require:

• Within the next 220 hours time-in-service (TIS) or 6 months, whichever occurs first, inspecting the positioning of each lower and upper door catch; and

• If any door catch is improperly installed, before further flight, replacing the affected catch, adjusting the micro-switches, and doing a functional test of the hinged door indicating system.

Comments

By publishing the NPRM, we gave the public an opportunity to participate in developing this AD. However, we received no comment on the NPRM or on our determination of the cost to the public. Therefore, based on our review and evaluation of the available data, we have determined that air safety and the public interest require adopting the AD as proposed.

Related Service Information

ECF has issued Alert Service Bulletin (ASB) No. 52.13 for the SA330F, G, and J helicopters, and 52.00.38 for the AS332C, C1, L, L1, and L2 helicopters, both ASBs dated December 1, 2008. The ASBs specify inspecting the upper and lower catches of the hinged doors to ensure the catches are correctly positioned. The actions described in the MCAI AD are intended to correct the unsafe condition identified in the service information. The AS332C1 is not type certificated in the United States.

FAA's Evaluation and Unsafe Condition Determination

These helicopters have been approved by the aviation authority of France and are approved for operation in the United States. Pursuant to our bilateral agreement with France, EASA, their Technical Agent, has notified us of the unsafe condition described in the MCAI AD. We are issuing this AD because we evaluated all information provided by EASA and determined the unsafe condition exists and is likely to exist or develop on other helicopters of these same type designs.

Differences Between This AD and the MCAI AD

We refer to flight hours as hours TIS. This AD does not apply to the Model AS332C1 because that model is not FAA type certificated.

Costs of Compliance

We estimate that this AD will affect about 10 helicopters of U.S. registry. We also estimate that it will take about 2 work-hours per helicopter to inspect each door catch for correct position of the door hinges, replace an affected catch, adjust the micro-switches of the hinged door, and do a functional test. The average labor rate is $85 per work-hour. The cost of the required parts is minimal. Based on these figures, we estimate that the cost of this AD on U.S. operators is $1,700.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared an economic evaluation of the estimated costs to comply with this AD. See the AD docket to examine the economic evaluation.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new AD:

2010-23-23 Eurocopter France: Amendment 39-16513; Docket No. FAA-2010-0670; Directorate Identifier 2009-SW-42-AD.

Effective Date

(a) This airworthiness directive (AD) becomes effective on December 22, 2010.

Other Affected ADs

(b) None.

Applicability

(c) This AD applies to Model SA330F, G, J, and AS332C, L, L1, and L2 helicopters, certificated in any category.

Reason

(d) The mandatory continuing airworthiness information (MCAI) AD states that EASA received a report of a rear hinged door on a Model AS332L1 helicopter opening in flight without loss of the door. Examinations revealed incorrect positioning of a door catch that resulted in incorrect locking and uncontrolled opening of the door. This condition, if not detected and corrected, can lead to the loss of the hinged door in flight, damage to the main or tail rotor blades, and subsequent loss of control of the helicopter.

Actions and Compliance

(e) Required as indicated:

(1) Within the next 220 hours time-in-service (TIS) or 6 months, whichever occurs first, unless done previously, inspect the position of each upper and lower door catch:

(i) As depicted in Figures 1 through 4 and by following the Accomplishment Instructions, Table 1 of paragraph 2.B.2., of Alert Service Bulletin (ASB) No. 52.13, dated December 1, 2008 (ASB 52.13) for the Model SA330F, G, and J helicopters, or

(ii) As depicted in Figures 1 through 5 and by following the Accomplishment Instructions, Table 1 of paragraph 2.B.2. of ASB No. 52.00.38, dated December 1, 2008 (ASB 52.00.38) for the Model AS332C, L, L1, and L2 helicopters.

(2) Before further flight, replace each improperly positioned catch by following the Accomplishment Instructions, paragraphs 2.B.3. and 2.B.4., of ASB 52.13 or ASB 52.00.38, as appropriate for your model helicopter.

(3) Before further flight, adjust each micro-switch, and conduct a functional test of the hinged-door indicating system:

(i) By following the Accomplishment Instructions, paragraph 2.B.5. and 2.B.6., of ASB 52.13, for the Model SA330F, G, and J helicopters, or

(ii) By following the Accomplishment Instructions, paragraph 2.B.5.a. through 2.B.5.b. of ASB 52.00.38 for the Model AS332C, L, L1, and L2 helicopters.

Differences Between This AD and the MCAI AD

(f) We refer to flight hours as hours TIS. This AD does not apply to the Model AS332C1 because that model is not FAA type certificated.

Other Information

(g) Alternative Methods of Compliance (AMOCs): The Manager, Safety Management Group, ATTN: DOT/FAA Southwest Region, Gary Roach, ASW-111, Aviation Safety Engineer, Rotorcraft Directorate, Regulations and Guidance Group, 2601 Meacham Blvd, Fort Worth, Texas 76137, telephone (817) 222-5130, fax (817) 222-5961, has the authority to approve AMOCs for this AD, if requested using the procedures found in 14 CFR 39.19.

Related Information

(h) EASA MCAI AD No. 2009-0015, dated January 21, 2009, contains related information.

Joint Aircraft System/Component (JASC) Code

(i) The JASC Code is 5200: Doors.

Material Incorporated by Reference

(j) You must use the specified portions of Eurocopter Alert Service Bulletin No.52.00.38 or No. 52.13, both dated December 1, 2008, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (800) 232-0323, fax (972) 641-3710, or at http://www.eurocopter.com.

(3) You may review copies at the FAA, Office of the Regional Counsel, Southwest Region, 2601 Meacham Blvd, Fort Worth, Texas 76137; or at the National Archives and Records Administration (NARA). For information on the availability of this material at NARA, call (202) 741-6030, or go to: http://www.archives.gov/federal-register/cfr/ibr-locations.html.

Issued in Fort Worth, Texas, on November 1, 2010.
Kim Smith,
Manager, Rotocraft Directorate, Aircraft Certification Service.

[FR Doc. 2010-28455 Filed 11-16-10; 8:45 am]

BILLING CODE 4910-13-P